DEPARTMENT OF TRANSPORTATION

Federal Aviation Administration

14 CFR Part 39

[Docket No. FAA-2019-0193; Product Identifier 2018-NM-159-AD; Amendment 39-19711; AD 2019-16-08]

RIN 2120-AA64

Airworthiness Directives; Airbus SAS Airplanes

AGENCY: Federal Aviation Administration (FAA), Department of Transportation (DOT).

ACTION: Final rule.

SUMMARY: The FAA is superseding Airworthiness Directive (AD) 2018-22-13, which applied to certain Airbus SAS Model A350-941 and -1041 airplanes. AD 2018-22-13 required revising the existing airplane flight manual (AFM) to provide the flightcrew with updated procedures related to inboard aileron fault operations. This AD continues to require that AFM revision, and also requires modification of the electronic centralized aircraft monitoring (ECAM) procedures by installing an Airbus temporary quick change (ATQC) and activating an ECAM temporary change. This AD was prompted by a technical issue detected on the inboard aileron electrohydrostatic actuators that caused potential erroneous monitoring of those actuators. The FAA is issuing this AD to address the unsafe condition on these products.

DATES: This AD is effective November 5, 2019.

The Director of the Federal Register approved the incorporation by reference of certain publications listed in this AD as of November 5, 2019.

ADDRESSES: For service information identified in this final rule, contact Airbus SAS, Airworthiness Office—EAL, Rond-Point Emile Dewoitine No: 2, 31700 Blagnac Cedex, France; telephone +33 5 61 93 36 96; fax +33 5 61 93 45 80; email continued-airworthiness.a350@airbus.com; internet http://www.airbus.com. You may view this referenced service information at the FAA, Transport Standards Branch, 2200 South 216th St., Des Moines, WA. For information on the availability of this material at the FAA, call 206-231-3195. It is also available on the internet at http://www.regulations.gov by searching for and locating Docket No. FAA-2019-0193.

Examining the AD Docket

You may examine the AD docket on the internet at http://www.regulations.gov by searching for and locating Docket No. FAA-2019-0193; or in person at Docket Operations between 9 a.m. and 5 p.m., Monday through Friday, except Federal holidays. The AD docket contains this final rule, the regulatory evaluation, any comments received, and other information. The address for Docket Operations is U.S. Department of Transportation, Docket Operations,M-30, West Building Ground Floor, Room W12-140, 1200 New Jersey Avenue SE, Washington, DC 20590.

FOR FURTHER INFORMATION CONTACT: Kathleen Arrigotti, Aerospace Engineer, International Section, Transport Standards Branch, FAA, 2200 South 216th St., Des Moines, WA 98198; telephone and fax 206-231-3218.

SUPPLEMENTARY INFORMATION:

Discussion

The FAA issued a notice of proposed rulemaking (NPRM) to amend 14 CFR part 39 to supersede AD 2018-22-13, Amendment 39-19486 (83 FR 55617, November 7, 2018) (“AD 2018-22-13”). AD 2018-22-13 applied to certain Airbus SAS Model A350-941 and -1041 airplanes. The NPRM published in the Federal Register on April 8, 2019 (84 FR 13843). The NPRM was prompted by a technical issue detected on the inboard aileron electrohydrostatic actuators that caused potential erroneous monitoring of those actuators. The NPRM proposed to continue to require revising the existing AFM to provide the flightcrew with updated procedures related to inboard aileron fault operations. The NPRM also proposed to require modifying the ECAM procedures by installing an ATQC and activating an ECAM temporary change. The FAA is issuing this AD to address possible in-flight loss of inboard aileron control, consequent increased fuel consumption due to the resulting drag, and reduced control or performance of the airplane if one engine is also inoperative.

The European Aviation Safety Agency (EASA), which is the Technical Agent for the Member States of the European Union, issued EASA AD 2018-0213R1, dated November 9, 2018 (referred to after this as the Mandatory Continuing Airworthiness Information, or “the MCAI”), to correct an unsafe condition for certain Airbus SAS Model A350-941 and -1041 airplanes. The MCAI states:

A technical issue was detected on the inboard aileron electro-hydrostatic actuators, causing potential erroneous monitoring of those actuators. Consequently, in-flight loss of inboard aileron control may occur, which, due to the resulting drag, would lead to increased fuel consumption.

This condition, if not corrected, and if combined with one engine inoperative, could result in reduced control or performance of the aeroplane.

To address this potential unsafe condition, Airbus issued the AFM TR [temporary revision] and Flight Operations Transmission (FOT) 999.0062/18, informing operators that Airbus provides two different Airbus Temporary Quick Changes (ATQC) to the Electronic Centralized Aircraft Monitoring (ECAM), depending on the installed FWS [flight warning system] standard, either STD [standard] S4/2.0 or STD S5/2.2, as applicable, and issued the applicable SB [service bulletin] accordingly, providing modification instructions.

For the reasons described above, this [EASA] AD requires amendment of the applicable AFM and installation of ATQC V4, followed by ECAM Temporary Change (ETC) activation, to update the procedures related to inboard aileron fault operations. This AD is considered to be an interim action and further AD action may follow.

This [EASA] AD is revised to amend the Applicability and correct some additional (minor) errors.

You may examine the MCAI in the AD docket on the internet at http://www.regulations.gov by searching for and locating Docket No. FAA-2019-0193.

Comments

The FAA gave the public the opportunity to participate in developing this final rule. The following presents the comments received on the NPRM and the FAA's response to each comment.

Support for NPRM

The Air Line Pilots Association, International (ALPA), and commenters Christian Maldonado, Claudia Galica, and Cristian Silva supported the NPRM.

Request To Include Alternative Service Information

Delta Airlines, Inc. (Delta), requested that the FAA revise paragraph (h)(1)(ii) of the proposed AD to allow installation of ATQC version 5 for FWS standard S5/2.2, in accordance with Airbus Service Bulletin A350-31-P032, dated February 28, 2019, instead of ATQC version 4. Delta asserted that version 5 is the next evolution and encompasses the items in version 4, so compliance would be maintained with the version 4 improvements. Delta added that allowing installation of version 5 in the proposed AD would prevent the need to request approval of an alternative method of compliance to install version 5.

The FAA partially agrees with the commenter's request. ATQC version 5 has also been found to mitigate the unsafe condition and is an acceptable method of compliance for this AD. However, version 5 cannot be installed if version 4 has not yet been installed. Therefore, all airplanes must install version 4, and any airplane may have version 5 installed afterwards. The FAA has revised paragraph (h)(1)(ii) accordingly.

Conclusion

The FAA reviewed the relevant data, considered the comments received, and determined that air safety and the public interest require adopting this final rule with the change described previously and minor editorial changes. The FAA has determined that these minor changes:

• Are consistent with the intent that was proposed in the NPRM for addressing the unsafe condition; and

• Do not add any additional burden upon the public than was already proposed in the NPRM.

The FAA also determined that these changes will not increase the economic burden on any operator or increase the scope of this final rule.

Related Service Information Under 1 CFR Part 51

Airbus issued the following service information:

Service Bulletin A350-31-P028, dated September 17, 2018, describes procedures for installing ATQC standard V4 for FWS standard S4/2.0.

Service Bulletin A350-31-P029, dated September 17, 2018, describes procedures for installing ATQC standard V4 for FWS standard S5/2.2.

Service Bulletin A350-31-P030, dated September 17, 2018, describes procedures for activating ECAM temporary change code No. 27AF.

Service Bulletin A350-31-P032, dated February 28, 2019, describes procedures for installing ATQC standard V5 for FWS standard S5/2.2.

Airbus A350 Temporary Revision (TR) 113, Issue 1, dated August 17, 2018, provides updated procedures related to inboard aileron fault operations. (This document was originally incorporated by reference in AD 2018-22-13 as of November 23, 2018 (83 FR 55617, November 7, 2018). However, AD 2018-22-13 had identified this TR with an incorrect, pre-approval date of July 27, 2018. The FAA has provided the correct date of the TR throughout this AD.)

This service information is reasonably available because the interested parties have access to it through their normal course of business or by the means identified in the ADDRESSES section.

Costs of Compliance

The FAA estimates that this AD affects 11 airplanes of U.S. registry. The FAA estimates the following costs to comply with this AD:

Estimated Costs for Required Actions
Action | Labor cost | Parts cost | Cost per product | Cost on U.S. operators
Retained actions from AD 2018-22-13 | 1 work-hour × $85 per hour = $85 | $0 | $85 | $935
New actions | 4 work-hours × $85 per hour = $340 | 0 | 340 | 3,740

According to the manufacturer, some or all of the costs of this AD may be covered under warranty, thereby reducing the cost impact on affected individuals. The FAA does not control warranty coverage for affected individuals. As a result, the FAA has included all known costs in the agency cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

The FAA determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2018-22-13, Amendment 39-19486 (83 FR 55617, November 7, 2018), and adding the following new AD:

2019-16-08 Airbus SAS: Amendment 39-19711; Docket No. FAA-2019-0193; Product Identifier 2018-NM-159-AD.

(a) Effective Date

This AD is effective November 5, 2019.

(b) Affected ADs

This AD replaces AD 2018-22-13, Amendment 39-19486 (83 FR 55617, November 7, 2018) (“AD 2018-22-13”).

(c) Applicability

This AD applies to Airbus SAS Model A350-941 and -1041 airplanes, certificated in any category, except those on which Airbus modifications 113758 and 113759 have been embodied in production.

(d) Subject

Air Transport Association (ATA) of America Code 27, Flight controls.

(e) Reason

This AD was prompted by a technical issue detected on the inboard aileron electrohydrostatic actuators that caused potential erroneous monitoring of those actuators. The FAA is issuing this AD to address possible in-flight loss of inboard aileron control, consequent increased fuel consumption due to the resulting drag, and reduced control or performance of the airplane if one engine is also inoperative.

(f) Compliance

Comply with this AD within the compliance times specified, unless already done.

(g) Retained Revision of Existing Airplane Flight Manual (AFM), With Revised Compliance Language and Corrected Temporary Revision (TR) Date

This paragraph restates the requirements of paragraph (g) of AD 2018-22-13, with revised compliance language and a corrected TR date. At the applicable time specified in paragraph (g)(1) or (2) of this AD, revise the Abnormal Procedures section of the existing AFM to include the information in Airbus A350 TR 113, Issue 1, dated August 17, 2018, which introduces updated procedures related to inboard aileron fault operations. This may be done by inserting a copy of Airbus A350 TR 113, Issue 1, dated August 17, 2018, into the existing AFM. When Airbus A350 TR 113, Issue 1, dated August 17, 2018, has been included in general revisions of the existing AFM, the general revisions may be inserted into the existing AFM, provided the relevant information in the general revisions is identical to that in Airbus A350 TR 113, Issue 1, dated August 17, 2018, and the TR may be removed. Operate the airplane according to the procedures in Airbus A350 TR 113, Issue 1, dated August 17, 2018. In case any discrepancy is identified between procedures displayed on the electronic centralized aircraft monitoring (ECAM) and procedures stated in the applicable existing AFM, the existing AFM procedures prevail.

(1) For airplanes modified by Airbus modifications 113758 and 113760: Within 30 days after the effective date of this AD.

(2) For airplanes not identified in paragraph (g)(1) of this AD: Within 30 days after November 23, 2018 (the effective date of AD 2018-22-13).

(h) New Requirement of This AD: Modification

Within 6 months after the effective date of this AD, do the actions specified in paragraphs (h)(1) and (2) of this AD.

(1) Install the Airbus temporary quick change (ATQC) as specified in paragraph (h)(1)(i) or (ii) of this AD, as applicable.

(i) For airplanes with flight warning system (FWS) standard S4/2.0: Install ATQC standard V4 for FWS standard S4/2.0, in accordance with the Accomplishment Instructions of Airbus Service Bulletin A350-31-P028, dated September 17, 2018.

(ii) For airplanes with FWS standard S5/2.2: Install ATQC standard V4 for FWS standard S5/2.2, in accordance with the Accomplishment Instructions of Airbus Service Bulletin A350-31-P029, dated September 17, 2018. After installation of ATQC standard V4, ATQC standard V5 for FWS standard S5/2.2 may be installed, in accordance with the Accomplishment Instructions of Airbus Service Bulletin A350-31-P032, dated February 28, 2019.

(2) Activate ECAM temporary change code No. 27AF, in accordance with the Accomplishment Instructions of Airbus Service Bulletin A350-31-P030, dated September 17, 2018.

(i) Other FAA AD Provisions

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (j)(2) of this AD. Information may be emailed to 9-ANM-116-AMOC-REQUESTS@faa.gov.

(i) Before using any approved AMOC, notify your appropriate principal inspector, or lacking a principal inspector, the manager of the local flight standards district office/certificate holding district office.

(ii) AMOCs approved previously for AD 2018-22-13 are approved as AMOCs for the corresponding provisions of this AD.

(2) Contacting the Manufacturer: As of the effective date of this AD, for any requirement in this AD to obtain corrective actions from a manufacturer, the action must be accomplished using a method approved by the Manager, International Section, Transport Standards Branch, FAA; or the European Union Aviation Safety Agency (EASA); or Airbus SAS's EASA Design Organization Approval (DOA). If approved by the DOA, the approval must include the DOA-authorized signature.

(3) Required for Compliance (RC): If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(j) Related Information

(1) Refer to Mandatory Continuing Airworthiness Information (MCAI) EASA AD 2018-0213R1, dated November 9, 2018, for related information. This MCAI may be found in the AD docket on the internet at http://www.regulations.gov by searching for and locating Docket No. FAA-2019-0193.

(2) For more information about this AD, contact Kathleen Arrigotti, Aerospace Engineer, International Section, Transport Standards Branch, FAA, 2200 South 216th St., Des Moines, WA 98198; telephone and fax 206-231-3218.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) You must use this service information as applicable to do the actions required by this AD, unless this AD specifies otherwise.

(i) Airbus Service Bulletin A350-31-P028, dated September 17, 2018.

(ii) Airbus Service Bulletin A350-31-P029, dated September 17, 2018.

(iii) Airbus Service Bulletin A350-31-P030, dated September 17, 2018.

(iv) Airbus Service Bulletin A350-31-P032, dated February 28, 2019.

(v) Airbus A350 Temporary Revision (TR) 113, Issue 1, dated August 17, 2018.

(4) For service information identified in this AD, contact Airbus SAS, Airworthiness Office—EAL, Rond-Point Emile Dewoitine No: 2, 31700 Blagnac Cedex, France; telephone +33 5 61 93 36 96; fax +33 5 61 93 45 80; email continued-airworthiness.a350@airbus.com; internet http://www.airbus.com.

(5) You may view this service information at the FAA, Transport Standards Branch, 2200 South 216th St., Des Moines, WA. For information on the availability of this material at the FAA, call 206-231-3195.

(6) You may view this service information that is incorporated by reference at the National Archives and Records Administration (NARA). For information on the availability of this material at NARA, email fedreg.legal@nara.gov, or go to http://www.archives.gov/federal-register/cfr/ibr-locations.html.

Issued in Des Moines, Washington, on August 9, 2019.
Michael Kaszycki,
Acting Director, System Oversight Division, Aircraft Certification Service.

[FR Doc. 2019-21241 Filed 9-30-19; 8:45 am]

BILLING CODE 4910-13-P